COMMISSION ON CIVIL RIGHTS

Notice of Public Meeting of the Maryland Advisory Committee

AGENCY: Commission on Civil Rights.

ACTION: Announcement of planning meeting.

SUMMARY: Notice is hereby given, pursuant to the provisions of the rules and regulations of the U.S. Commission on Civil Rights (Commission), and the Federal Advisory Committee Act (FACA), that a meeting of the Maryland Advisory Committee to the Commission will convene by WebEx virtual platform and conference call on Tuesday, December 7, 2021, at 12:00 p.m. to continue its work on water accessibility and affordability in Maryland, including speakers on the topic.

DATES: Tuesday, December 7, 2021; 12:00 p.m. (ET).

PUBLIC WEBEX CONFERENCE LINK (video and audio): https://bit.ly/3ATFxTt.

IF PHONE ONLY: 1-800-360-9505; Access code: 199 818 3090#.

FOR FURTHER INFORMATION CONTACT: Barbara Delaviez at ero@usccr.gov or by phone at 202-381-8915.

SUPPLEMENTARY INFORMATION: The meeting is available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request additional accommodations, please email bdelaviez@usccr.gov at least 10 days prior to the meeting.

Members of the public are invited to make statements during the open comment period of the meeting or submit written comments. The comments must be received in the regional office approximately 30 days after each scheduled meeting. Written comments may be emailed to Barbara Delaviez at ero@usccr.gov. Persons who desire additional information may contact Barbara Delaviez at 202-539-8246.

Records and documents discussed during the meeting will be available for public viewing as they become available at www.facadatabase.gov. Persons interested in the work of this advisory committee are advised to go to the Commission's website, www.usccr.gov, or to contact the Eastern Regional Office at the above phone number or email address.

Agenda

December 7, 2021 (Tuesday); 12:00 p.m. (ET)

• Rollcall

• Planning and Presentations on Water Affordability/Accessibility

• Open Comment

• Adjournment

Dated: November 15, 2021.
David Mussatt,
Supervisory Chief, Regional Programs Unit.

[FR Doc. 2021-25230 Filed 11-18-21; 8:45 am]

BILLING CODE P